Proclamation 7720 of October 10, 2003

Columbus Day, 2003

By the President of the United States of America

A Proclamation

When Christopher Columbus set out from Spain in August 1492, he launched an era of discovery and exploration that continues today. On Columbus Day, we honor this Italian explorer's courage and vision, and recognize his four journeys to the “New World.”

One of the first known celebrations of Christopher Columbus' achievements was in 1792 when a ceremony in New York City celebrated the 300th anniversary of his landing in the Bahamas. Italian Americans began regularly honoring Columbus in the 1860s. In 1892, President Benjamin Harrison issued a Presidential proclamation on the 400th anniversary of Columbus' first voyage, describing Columbus as “the pioneer of progress and enlightenment.” The United States now celebrates a national holiday in honor of Columbus.

Columbus' willingness to sacrifice the comfort of his home to pursue the unknown has inspired generations of daring explorers. Through the years, Americans have followed in the spirit of Columbus through exploration of land, sea, and space, and are fulfilling Columbus' great legacy. Since the days of Columbus, millions of Italian immigrants have crossed the ocean and come to the United States. These Italian Americans and their descendants have made America stronger and better.

In commemoration of Columbus' journey, the Congress, by joint resolution of April 30, 1934, and modified in 1968 (36 U.S.C. 107), as amended, has requested that the President proclaim the second Monday of October of each year as “Columbus Day.”

NOW, THEREFORE, I, GEORGE W. BUSH, President of the United States of America, do hereby proclaim October 13, 2003, as Columbus Day. I call upon the people of the United States to observe this day with appropriate ceremonies and activities. I also direct that the flag of the United States be displayed on all public buildings on the appointed day in honor of Christopher Columbus.

IN WITNESS WHEREOF, I have hereunto set my hand this tenth day of October, in the year of our Lord two thousand three, and of the Independence of the United States of America the two hundred and twenty-eighth.

B

[FR Doc. 03-26330

Filed 10-15-03; 8:45 am]

Billing code 3195-01-P